DEPARTMENT OF THE INTERIOR

Minerals Management Service

30 CFR Part 250

Oil and Gas and Sulphur Operations in the Outer Continental Shelf—Corrections

AGENCY: Minerals Management Service (MMS), Interior.

ACTION: Correcting amendments.

SUMMARY: This document makes technical corrections to regulations that were published in various Federal Register documents and are codified in the Code of Federal Regulations under Title 30—Minerals Resources, Parts 200-269. The changes are necessary to correct a citation and a reference to a section of a document incorporated by reference.

EFFECTIVE DATE: June 6, 2000.

FOR FURTHER INFORMATION CONTACT: Alexis London, Rules Processing Team, Engineering and Operations Division, (703) 787-1600.

SUPPLEMENTARY INFORMATION:

Background

These correcting amendments affect all offshore operators and lessees. The following describes the two minor corrections we are making.

On May 29, 1998 (63 FR 29478), MMS published a final rule commonly known as the “redesignation” rule, which assigned new section numbers to each section in 30 CFR part 250 (Oil and Gas and Sulphur Operations in the Outer Continental Shelf). The purpose was to allow MMS to logically format the subparts in the future without further renumbering. In the process of redesignating the regulations, we missed correcting a citation in 30 CFR 250.613(a). That section references the citation “§ 250.91”, which should have been changed to “§ 250.601” and is now being corrected.

In § 250.198(e), our regulations incorporate various documents by reference and these documents are then referenced in other sections of the regulations. One of these documents is API RP 14H, Recommended Practice for Installation, Maintenance and Repair of Surface Safety Valves and Underwater Safety Valves Offshore. This document is referenced in § 250.804(a)(4) as “API RP 14H, Section 4, Table 2”. However, there are no tables in Section 4 of API RP 14H and the reference should have been to “Section 6” rather than “Section 4”. We are correcting § 250.804(a)(4) to simply reference document “API RP 14H” without designating a specific section of the document.

Need for Correction

As published, the final regulations contain errors which may prove to be misleading, and are in need of clarification.

List of Subject in 30 CFR Part 250

Continental shelf, Environmental impact statements, Environmental protection, Government contracts, Incorporation by reference, Investigations, Mineral royalties, Oil and gas development and production, Oil and gas exploration, Oil and gas reserves, Penalties, Pipelines, Public lands—mineral resources, Public lands—rights-of-way, Reporting and recordkeeping requirements, Sulphur development and production, Sulphur exploration, Surety bonds.

Accordingly, 30 CFR Part 250 is corrected by making the following correcting amendments:

PART 250-OIL AND GAS AND SULPHUR OPERATIONS IN THE OUTER CONTINENTAL SHELF

1. The authority citation for part 250 continues to read as follows:

Authority: 43 U.S.C. 1331 et seq.

§ 250.613 [Corrected]

2. In § 250.613, paragraph (a), in the first sentence, the citation “§ 250.91” is revised to read “§ 250.601”.

§ 250.804 [Corrected]

3. In § 250.804, paragraph (a)(4), in the second sentence, the reference to “API RP 14H, Section 4, Table 2.” is revised to read “API RP 14H.”

Dated: May 24, 2000.
John V. Mirabella,
Acting Chief, Engineering and Operations Division.

[FR Doc. 00-13867 Filed 6-5-00; 8:45 am]

BILLING CODE 4310-MR-P